DEPARTMENT OF DEFENSE

Office of the Secretary

[Docket ID: DoD-2015-OS-0080]

Proposed Collection; Comment Request

AGENCY: Office of the Assistant Secretary of Defense, DoD.

ACTION: Notice.

SUMMARY: In compliance with the Paperwork Reduction Act of 1995, the Office of the Assistant Secretary of Defense announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 13, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of Family Policy/Children and Youth, Program Analyst for the Family Advocacy Program, 4800 Mark Center Drive, Suite 03G15, Alexandria, VA 22350-2300, ATTN: Mary Campise, or call 571-372-5346.

SUPPLEMENTARY INFORMATION: Title; Associated Form; and OMB Number: Family Advocacy Program (FAP): Central Registry: Child Maltreatment and Domestic Abuse Incident Reporting System; OMB Control Number 0704-0536.

Needs and Uses: Office of the Secretary of Defense Family Advocacy Program together with DMDC conducts an annual collection and reporting of aggregated data from all of the Military Departments concerning domestic abuse and child abuse and neglect. The data is used as the basis of an annual report that the Department of Defense sends to the Service Secretaries and Public Affairs concerning domestic abuse and child abuse in the military services, along with the rates per thousand, and a comparison to the civilian community.

Affected Public: Individuals or Households.

Annual Burden Hours: 39,170.

Number of Respondents: 19,585.

Responses per Respondent: 1.

Annual Responses: 19,585.

Average Burden per Response: 2 hours.

Frequency: On occasion.

DoD Instruction 6400.01 Family Advocacy Program (FAP) establishes policy and assigns responsibility for addressing child abuse and neglect and domestic abuse through family advocacy programs and services. Each military service delivers a family advocacy program to their respective military members and their families. Military or family members may use these services, and voluntary personal information must be gathered to determine benefit eligibility and individual needs.

Dated: August 6, 2015.
Aaron Siegel,
Alternate OSD Federal Register, Liaison Officer, Department of Defense.

[FR Doc. 2015-19665 Filed 8-10-15; 8:45 am]

BILLING CODE 5001-06-P